DEPARTMENT OF HEALTH AND HUMAN SERVICES

Health Resources and Services Administration

National Vaccine Injury Compensation Program: List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2018, through August 31, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: September 20, 2018.
George Sigounas,
Administrator.

List of Petitions Filed

1. Dustin Bradley, San Diego, California, Court of Federal Claims No: 18-1123V

2. Richard Bishop, La Crosse, Wisconsin, Court of Federal Claims No: 18-1126V

3. Jocelyn Banda on behalf of A. B., El Centro, California, Court of Federal Claims No: 18-1127V

4. Dorothy J. Kapp, Louisville, Kentucky, Court of Federal Claims No: 18-1128V

5. Angela Beasley, Birmingham, Alabama, Court of Federal Claims No: 18-1130V

6. Terry Thornton, Huntsville, Alabama, Court of Federal Claims No: 18-1131V

7. Violet J. Barino, Florence, South Carolina, Court of Federal Claims No: 18-1132V

8. Jennifer Robinson, Baton Rouge, Louisiana, Court of Federal Claims No: 18-1134V

9. Yarah Alicea and Nicholas Kontos on behalf of V. K., Cutler Bay, Florida, Court of Federal Claims No: 18-1136V

10. Rabia Malik, Franklin, Ohio, Court of Federal Claims No: 18-1138V

11. Iris J. Jackson, Snellville, Georgia, Court of Federal Claims No: 18-1143V

12. Kathryn Nelson, Stillwater, Minnesota, Court of Federal Claims No: 18-1144V

13. Donna Blackwell, Bristol, Tennessee, Court of Federal Claims No: 18-1145V

14. Stacie Wilson, Hiawatha, Kansas, Court of Federal Claims No: 18-1148V

15. Gretchen Handy, Grand Forks, North Dakota, Court of Federal Claims No: 18-1149V

16. Erin Simison, Windsor Locks, Connecticut, Court of Federal Claims No: 18-1151V

17. Robert Jamison, Harrison, Michigan, Court of Federal Claims No: 18-1152V

18. Evelyn Mazmanian, Cambridge, Massachusetts, Court of Federal Claims No: 18-1153V

19. Derek Roberts on behalf of Willie Roberts, Jr., Deceased, Seattle, Washington, Court of Federal Claims No: 18-1156V

20. Yovanny Alonzo, Bronx, New York, Court of Federal Claims No: 18-1157V

21. Agustin Pino, Miami, Florida, Court of Federal Claims No: 18-1159V

22. Beverly Ford, Temple, Texas, Court of Federal Claims No: 18-1160V

23. Heather Doucette, Ocala, Florida, Court of Federal Claims No: 18-1161V

24. Mark Thomann, Chicago, Illinois, Court of Federal Claims No: 18-1162V

25. Wayne F. Grant, Lakeland, Florida, Court of Federal Claims No: 18-1163V

26. Bonni Jean Arnold, Poway, California, Court of Federal Claims No: 18-1164V

27. Ashley Barkocy on behalf of M. B., Destin, Florida, Court of Federal Claims No: 18-1175V

28. Willie Anderson, Tyler, Texas, Court of Federal Claims No: 18-1177V

29. Rosa M. Rios Morales and Juan Enrique Lozada Virella on behalf of I. K. L. R., Barranquitas, Puerto Rico, Court of Federal Claims No: 18-1190V

30. Joseph Putignano, New York, New York, Court of Federal Claims No: 18-1192V

31. Kathryn E. McCreary, Amherst, New York, Court of Federal Claims No: 18-1194V

32. Tara Brooks, Prescott Valley, Arizona, Court of Federal Claims No: 18-1195V

33. Patrick L. Magliozzi, Carmel, Indiana, Court of Federal Claims No: 18-1196V

34. Susan Mogavero, San Diego, California, Court of Federal Claims No: 18-1197V

35. Robert Wharton and Debra Wharton on behalf of B. W., Boston, Massachusetts, Court of Federal Claims No: 18-1198V

36. Lucy Moore, Clifton, New York, Court of Federal Claims No: 18-1199V

37. Abeje Schnake, Glendale, Wisconsin, Court of Federal Claims No: 18-1201V

38. Shannon Delehanty, Conover, North Carolina, Court of Federal Claims No: 18-1202V

39. Christina Mecklenburg on behalf of H.M., Laguna Niguel, California, Court of Federal Claims No: 18-1203V

40. Megan McDonald on behalf of Malayna Grace McDonald, Patchogue, New York, Court of Federal Claims No: 18-1204V

41. Palestine McGowen, Tyler, Texas, Court of Federal Claims No: 18-1205V

42. Franline Lucinda Destin, North Miami, Florida, Court of Federal Claims No: 18-1206V

43. Lindsey Hettish, Coraopolis, Pennsylvania, Court of Federal Claims No: 18-1207V

44. Nancy Rissler, Frisco, Texas, Court of Federal Claims No: 18-1208V

45. Christina Christopher, White Oak, Pennsylvania, Court of Federal Claims No: 18-1210V

46. Garrett D. Polowy, Fairfax, Virginia, Court of Federal Claims No: 18-1211V

47. Dalvinder Singh Bains and Gurpal Kaur Bains on behalf of K.S.B., Yuba City, California, Court of Federal Claims No: 18-1212V

48. Leonard Thompson, Midland, Michigan, Court of Federal Claims No: 18-1217V

49. Barbara King Van Osdol, Indianapolis, Indiana, Court of Federal Claims No: 18-1219V

50. Thomas Schuster, Rogers, Minnesota, Court of Federal Claims No: 18-1220V

51. William O. Ledbetter, Piedmont, Alabama, Court of Federal Claims No: 18-1222V

52. Jean Golden, Clayton, New York, Court of Federal Claims No: 18-1223V

53. Mary McNally, Dresher, Pennsylvania, Court of Federal Claims No: 18-1228V

54. Donald Randolph, Seattle, Washington, Court of Federal Claims No: 18-1231V

55. Dale Kilpatric, Seattle, Washington, Court of Federal Claims No: 18-1232V

56. Leslie Nan Moon, North Bend, Washington, Court of Federal Claims No: 18-1233V

57. Ryan Hodges on behalf of S.H., Knotts Island, North Carolina, Court of Federal Claims No: 18-1234V

58. Kurt Sonnenburg, Madison, Wisconsin, Court of Federal Claims No: 18-1235V

59. Victoria Kanter, Naperville, Illinois, Court of Federal Claims No: 18-1236V

60. Jean Strone, Riverdale, New Jersey, Court of Federal Claims No: 18-1237V

61. Laurie Barreiro, Greensboro, North Carolina, Court of Federal Claims No: 18-1238V

62. Teresa Ortiz, Stockton, California, Court of Federal Claims No: 18-1239V

63. Elizabeth Salazar on behalf of D.R., Houston, Texas, Court of Federal Claims No: 18-1242V

64. Basil McNeely, Mobile, Alabama, Court of Federal Claims No: 18-1243V

65. Tristen Caughel, Washington, District of Columbia, Court of Federal Claims No: 18-1244V

66. Kayla Neuenschwander, Liberty Hill, Texas, Court of Federal Claims No: 18-1245V

67. Stephanie Scott, Washington, District of Columbia, Court of Federal Claims No: 18-1246V

68. Robert J. Lang, Palmdale, California, Court of Federal Claims No: 18-1247V

69. Cynthia L. Kiegel, Newburgh, Indiana, Court of Federal Claims No: 18-1249V

70. Carey Shimada, Layton, Utah, Court of Federal Claims No: 18-1250V

71. Brooke Cloyd and Dylan Cloyd on behalf of B.T.C., Dallas, Texas, Court of Federal Claims No: 18-1251V

72. Julie Schwindt, Washington, District of Columbia, Court of Federal Claims No: 18-1253V

73. Norma Keller on behalf of Elizabeth Keller, Greensboro, North Carolina, Court of Federal Claims No: 18-1256V

74. Ashley Muller, Phoenix, Arizona, Court of Federal Claims No: 18-1258V

75. Tennie Komar, Boston, Massachusetts, Court of Federal Claims No: 18-1259V

76. Gerard Pepeta, Boston, Massachusetts, Court of Federal Claims No: 18-1262V

77. Donna Stearns, Washington, District of Columbia, Court of Federal Claims No: 18-1264V

78. William Dorris, Washington, District of Columbia, Court of Federal Claims No: 18-1265V

79. Tina Furlano, Pittsburgh, Pennsylvania, Court of Federal Claims No: 18-1266V

80. Ryan Bronson, Tampa, Florida, Court of Federal Claims No: 18-1267V

81. Lori A. Hildebrand, Pittsburgh, Pennsylvania, Court of Federal Claims No: 18-1268V

82. Richard Weatherly, Burlington, North Carolina, Court of Federal Claims No: 18-1269V

83. Gloria Kirkpatrick, Cleveland, Tennessee, Court of Federal Claims No: 18-1271V

84. Sherrie Sandoval on behalf of Robert Sandoval, Deceased, Los Alamos, New Mexico, Court of Federal Claims No: 18-1272V

85. Latoria Martin, King of Prussia, Pennsylvania, Court of Federal Claims No: 18-1276V

86. Dianah Hernandez, Mineola, New York, Court of Federal Claims No: 18-1277V

87. Brian Gribbin, Peoria, Arizona, Court of Federal Claims No: 18-1278V

88. Shabnam Kouchak, Detroit, Michigan, Court of Federal Claims No: 18-1279V

89. Monica DaSilva, Dickinson, North Dakota, Court of Federal Claims No: 18-1282V

90. Melissa Papineau, Wichita, Kansas, Court of Federal Claims No: 18-1283V

91. Dolores A. Gorczyca, Memphis, Tennessee, Court of Federal Claims No: 18-1284V

92. Jordan Sussman, Richboro, Pennsylvania, Court of Federal Claims No: 18-1285V

93. Cynthia Pryor and Freddie Pryor, Jr. on behalf of I.P., Phoenix, Arizona, Court of Federal Claims No: 18-1288V

94. Daniel C. Stratton, Jamestown, New York, Court of Federal Claims No: 18-1290V

95. Terri L. Vanderjack, Westmont, Illinois, Court of Federal Claims No: 18-1293V

96. Donald Wells, Blue Ash, Ohio, Court of Federal Claims No: 18-1294V

97. Lisa Olexa, Skillman, New Jersey, Court of Federal Claims No: 18-1295V

98. Craig Johnson, Bayport, Minnesota, Court of Federal Claims No: 18-1296V

99. Ursula Hallvik, Dresher, Pennsylvania, Court of Federal Claims No: 18-1297V

100. Franklin Gallo, Washington, District of Columbia, Court of Federal Claims No: 18-1298V

101. Donna McGill, Washington, District of Columbia, Court of Federal Claims No: 18-1300V

102. Tara Dennington, Washington, District of Columbia, Court of Federal Claims No: 18-1303V

103. Esmerelda Barrera, Dallas, Texas, Court of Federal Claims No: 18-1304V

104. Susan Ann Kuhn, Washington, District of Columbia, Court of Federal Claims No: 18-1305V

105. Rochelle Lambrick, Washington, District of Columbia, Court of Federal Claims No: 18-1306V

106. Rebecca Wentland, Sacramento, California, Court of Federal Claims No: 18-1308V

107. Mary Ward, Auburn Hills, Michigan, Court of Federal Claims No: 18-1310V

108. Amy Merrigan, Washington, District of Columbia, Court of Federal Claims No: 18-1311V

109. Emon Hollins, Waupun, Wisconsin, Court of Federal Claims No: 18-1313V

110. Lorrie Piller, Walnut Creek, California, Court of Federal Claims No: 18-1314V

111. Penny Culp, Washington, District of Columbia, Court of Federal Claims No: 18-1315V

112. Elbert Compton, Waupun, Wisconsin, Court of Federal Claims No: 18-1316V

113. Mark T. Moore, Washington, District of Columbia, Court of Federal Claims No: 18-1317V

114. Brittany Moreland, Washington, District of Columbia, Court of Federal Claims No: 18-1319V

115. Deborah Schor, Washington, District of Columbia, Court of Federal Claims No: 18-1320V

116. Patricia Barlogio, Redding, California, Court of Federal Claims No: 18-1323V

117. Brianne Morgan and William Morgan on behalf of B.M., Phoenix, Arizona, Court of Federal Claims No: 18-1324V

118. Vicki Parker, Boston, Massachusetts, Court of Federal Claims No: 18-1325V

119. James Shinn, Lumberton, New Jersey, Court of Federal Claims No: 18-1328V

120. Bobby Joe Love, Counce, Tennessee, Court of Federal Claims No: 18-1329V

121. Susan Kay Hine, Boise, Idaho, Court of Federal Claims No: 18-1331V

122. David Esala, Lakewood, Minnesota, Court of Federal Claims No: 18-1333V

123. Racquel Weaver, Piscataway, New York, Court of Federal Claims No: 18-1334V

124. Therese Tjimis, Washington, District of Columbia, Court of Federal Claims No: 18-1335V

125. Mathew Hennings, Englewood, New Jersey, Court of Federal Claims No: 18-1336V

126. Mohsin Bhojani, Arcadia, California, Court of Federal Claims No: 18-1337V

127. Maia Merin, Wilmington, Delaware, Court of Federal Claims No: 18-1341V

128. Latishe Boyd, Williamsville, New York, Court of Federal Claims No: 18-1342V

129. Melvin Green, Orlando, Florida, Court of Federal Claims No: 18-1343V

130. Andrea D. Nace, Dresher, Pennsylvania, Court of Federal Claims No: 18-1344V

131. Melissa Leath, Cheyenne, Wyoming, Court of Federal Claims No: 18-1345V

132. Renee Lee, Newton Falls, Ohio, Court of Federal Claims No: 18-1346V

[FR Doc. 2018-20863 Filed 9-25-18; 8:45 am]

BILLING CODE 4165-15-P